DEPARTMENT OF LABOR

Employment and Training Administration

[TA-W-40,452]

N & H Corporation, Mohnton, Pennsylvania; Notice of Termination of Investigation

Pursuant to Section 221 of the Trade Act of 1974, an investigation was initiated on December 17, 2001, in response to a worker petition which was filed on behalf of workers at N & H Corporation, Mohnton, Pennsylvania.

A petition for this worker group is currently under investigation (TA-W-40,394). Consequently, further investigation would serve no purpose and the investigation has been terminated.

Signed in Washington, DC, this 27th day of December, 2001.
Linda G. Poole,
Certifying Officer, Division of Trade Adjustment Assistance.

[FR Doc. 02-715 Filed 1-10-02; 8:45 am]

BILLING CODE 4510-30-M